DEPARTMENT OF LABOR

Employment and Training Administration

[NAFTA-6205]

ZF-Meritor, LLC, Meritor Clutch Company, Maxton, North Carolina; Dismissal of Application for Reconsideration

Pursuant to 29 CFR 90.18(C) an application for administrative reconsideration was filed with the Director of the Division of Trade Adjustment Assistance for workers at ZF Meritor, LLC, Meritor Clutch Company, Maxton, North Carolina. The application contained no new substantial information which would bear importantly on the Department's determination. Therefore, dismissal of the application was issued.

NAFTA-6205; ZF Meritor, LLC, Meritor Clutch Company Maxton, North Carolina (August 6, 2002)

Signed at Washington, DC this 8th day of August, 2002.
Edward A. Tomchick,
Director, Division of Trade Adjustment Assistance.

[FR Doc. 02-20620 Filed 8-13-02; 8:45 am]

BILLING CODE 4510-30-P